DEPARTMENT OF THE INTERIOR

Fish and Wildlife Service

[FWS-R2-ES-2014-N120; FXES11130200000-145-FF02ENEH00]

Oil and Gas Industry Conservation Plan for the American Burying Beetle in Oklahoma; Finding of No Significant Impact for Environmental Assessment; Receipt of an Incidental Take Permit Application for Participation From Canyon Creek Energy Operating

AGENCY: Fish and Wildlife Service, Interior.

ACTION: Notice of availability; request for public comment.

SUMMARY: We, the U.S. Fish and Wildlife Service, make available the final Environmental Assessment (EA), Finding of No Significant Impact (FONSI), Response to Comments, and the final Oil and Gas Industry Conservation Plan Associated With Issuance of Endangered Species Act Section 10(a)(1)(B) Permits for the American Burying Beetle in Oklahoma (ICP). We also invite the public to comment on an application from Canyon Creek Energy Operating, for incidental take of the federally listed American burying beetle resulting from activities associated with the construction, operation, maintenance, repair, and decommissioning of oil and gas pipelines and related well field activities in Oklahoma, under the ICP. The final ICP, final EA, FONSI, and Response to Comments are available for review; however, we are not accepting comments on these final, approved documents. We are only accepting comments on the applicant's incidental take application.

DATES: To ensure consideration, written comments on the application from Canyon Creek Energy Operating, for incidental take of the federally listed American burying beetle must be received on or before August 25, 2014.

ADDRESSES: You may obtain copies of all documents and submit comments on the applicant's application by one of the following methods. Please refer to the permit number (TE-38404B) when requesting documents or submitting comments.

○ U.S. Mail: U.S. Fish and Wildlife Service, Division of Endangered Species—HCP Permits, P.O. Box 1306, Room 6034, Albuquerque, NM 87103.

○ Electronically: fw2_hcp_permits@fws.gov.

FOR FURTHER INFORMATION CONTACT: Marty Tuegel, Branch Chief, by U.S. mail at Environmental Review, P.O. Box 1306, Room 6034, Albuquerque, NM 87103; or by telephone at 505-248-6651.

SUPPLEMENTARY INFORMATION:

Final Environmental Assessment, Finding of No Significant Impact, Response to Comments, and Oil and Gas Industry Conservation Plan

We, the U.S. Fish and Wildlife Service, make available the final Environmental Assessment (EA), Finding of No Significant Impact (FONSI), Response to Comments, and the final Oil and Gas Industry Conservation Plan Associated With Issuance of Endangered Species Act Section 10(a)(1)(B) Permits for the American Burying Beetle in Oklahoma (ICP). Drafts of the EA and ICP were made available for comment on April 16, 2014 (79 FR 21480), and were approved on May 21, 2014.

Under the National Environmental Policy Act of 1969 (42 U.S.C. 4321 et seq.), this notice advises the public that we, the Service, have analyzed the impacts to the human environment related to the issuance of incidental take permits (ITPs) under ESA section 10(a)(1)(B) to oil and gas companies (applicants) who agree to the conditions in the ICP. The ICP is a habitat conservation plan (HCP) that will address take of the ABB that is incidental to covered activities associated with oil and gas development, including geophysical exploration (seismic) and the construction, operation, maintenance, repair, and decommissioning of oil and gas pipelines and well field infrastructure. The ICP includes measures necessary to minimize and mitigate impacts to the covered species and their habitats to the maximum extent practicable. Any ITPs issued under the ICP will be in effect from the date of issuance for a period of up to 24 months for construction, and up to 20 years of operation, maintenance, repairs, and decommissioning, pursuant to the ICP. The ICP Planning Area covers 45 Oklahoma counties: Adair, Atoka, Bryan, Carter, Cherokee, Choctaw, Cleveland, Coal, Craig, Creek, Delaware, Garvin, Haskell, Hughes, Johnson, Kay, Latimer, Le Flore, Lincoln, Love, Marshall, Mayes, McClain, McCurtain, McIntosh, Murray, Muskogee, Noble, Nowata, Okfuskee, Okmulgee, Osage, Ottawa, Pawnee, Payne, Pittsburg, Pontotoc, Pottawatomie, Pushmataha, Rogers, Seminole, Sequoyah, Tulsa, Wagoner, and Washington.

Activities associated with the construction, operation, maintenance, repair, and decommissioning of oil and gas pipelines and related well field activities as described in the ICP were developed through a collaborative effort between the Service, oil and gas companies in Oklahoma, and other stakeholders. To meet the requirements of a section 10(a)(1)(B) ITP, the applicant agrees to the conditions in the ICP, which describes the conservation measures to minimize and mitigate for incidental take of the covered species to the maximum extent practicable.

Application Available for Review and Comment

We, the U.S. Fish and Wildlife Service, invite local, State, Tribal, and Federal agencies, and the public to comment on the application from Canyon Creek Energy Operating, for incidental take under the ICP of the federally listed American burying beetle (Nicrophorus americanus; ABB) resulting from activities associated with geophysical exploration (seismic), development, extraction, or transport of crude oil, natural gas, and/or other petroleum products, and construction, maintenance, operation, repair, and decommissioning of oil and gas pipelines and well field infrastructure within 45 counties in Oklahoma. Please refer to permit number TE-38404B when requesting application documents and when submitting comments.

Documents and other information the applicants have submitted with this application are available for review, subject to the requirements of the Privacy Act (5 U.S.C. 552a) and Freedom of Information Act (5 U.S.C. 552).

Permit TE-38404B

Applicant: Canyon Creek Energy Operating, Tulsa, OK. Applicant requests a new permit for oil and gas upstream and midstream production, including geophysical exploration (seismic) and construction, maintenance, operation, repair, and decommissioning of oil and gas well field infrastructure, as well as construction, maintenance, operation, repair, decommissioning, and reclamation of oil and gas gathering, transmission, and distribution pipeline infrastructure within Oklahoma.

Public Availability of Comments

Written comments we receive become part of the public record associated with this action. Before including your address, phone number, email address, or other personal identifying information in your comment, you should be aware that your entire comment—including your personal identifying information—may be made publicly available at any time. While you can request in your comment that we withhold your personal identifying information from public review, we cannot guarantee that we will be able to do so. We will not consider anonymous comments. All submissions from organizations or businesses, and from individuals identifying themselves as representatives or officials of organizations or businesses, will be made available for public disclosure in their entirety.

Authority

We provide this notice under section 10(c) of the Act (16 U.S.C. 1531 et seq.) and its implementing regulations (50 CFR 17.22) and NEPA (42 U.S.C. 4321 et seq.) and its implementing regulations (40 CFR 1506.6).

Dated: July 9, 2014.
Joy E. Nicholopoulos,
Acting Regional Director, Southwest Region.

[FR Doc. 2014-17551 Filed 7-24-14; 8:45 am]

BILLING CODE 4310-55-P